DEPARTMENT OF THE TREASURY

Office of Foreign Assets Control

Payments to Persons Who Hold Certain Categories of Judgments Against Cuba or Iran

AGENCY: Department of the Treasury; Office of Foreign Assets Control.

ACTION: Notice.

SUMMARY: This notice specifies a widening of the scope of eligibility for payment under Section 2002 of the Victims of Trafficking and Violence Protection Act of 2000, Pub. L. No. 106-386 (“Section 2002”), that has resulted from an amendment to Section 2002. Section 2002 directs the Secretary of the Treasury to make payments to persons who hold certain categories of judgments against Cuba or Iran in suits brought under 28 U.S.C. 1605(a)(7).

This notice also provides updated telephone numbers for contact persons at the Department of the Treasury.

DATES: This Notice is effective December 10, 2002.

FOR FURTHER INFORMATION CONTACT: For questions regarding submission of applications, Rochelle E. Stern, Chief, Policy Planning and Program Management Division, Office of Foreign Assets Control, can be reached at 202-622-2500 (not a toll free call). For legal questions, call the Office of the Chief Counsel (Foreign Assets Control) at 202-622-2410 (not a toll free call).

SUPPLEMENTARY INFORMATION: On November 22, 2000, at 65 FR 70382, the Office of Foreign Assets Control, Department of the Treasury, published a Federal Register Notice (“November Notice”) specifying the procedures necessary for persons to establish their eligibility for payments authorized by Section 2002. The November Notice specified information and documentation that applicants must submit to establish eligibility. Part 2(e) of the November Notice implements Section 2002(a)(2) by providing that an applicant for payment under Section 2002 must meet one of two alternative requirements. To meet the first requirement, Part 2(e)(1) of the November Notice provides that the applicant must establish that he or she had, as of July 20, 2000, a final judgment for a claim brought under 28 U.S.C. 1605(a)(7) against Iran or Cuba. For those applicants who do not satisfy the requirements of Part 2(e)(1), Part 2(e)(2) of the November Notice requires the submission of satisfactory proof of the date on which applicants filed suit against Iran or Cuba under 28 U.S.C. 1605(a)(7), and it lists the five dates upon which applicants must have filed suit in order to be eligible for payment. Such applicants must also establish that they have final judgments in these suits.

On September 30, 2002, Section 2002 was amended by Section 686 of Pub. L. No. 107-228. The amendment of Section 2002(a)(2)(A)(ii) replaced “or July 27, 2000” with “June 6, 2000, July 27, 2000, or January 16, 2002”, adding two additional dates for the filing of suits by persons eligible for payment under Section 2002.

Accordingly, Part 2(e)(2) of the November Notice is amended to read as follows:

(2) If an applicant does not satisfy paragraph (1) above, the applicant shall submit satisfactory proof of the date on which the applicant filed a suit against Iran or Cuba under 28 U.S.C. 1605(a)(7). This proof shall be in the form of a docket sheet or other document that has been certified by the clerk of the court in which the suit was filed. Applicants proceeding under this paragraph shall be eligible for payment only if suit was filed on February 17, 1999, December 13, 1999, January 28, 2000, March 15, 2000, June 6, 2000, July 27, 2000, or January 16, 2002. The applicant must also establish that he or she has a final judgment in this suit by submitting the judgment specified in Part 2(b) above, along with all appellate orders on that judgment, if any, and a signed statement demonstrating why further appellate review is unavailable.

Dated: November 7, 2002.
R. Richard Newcomb,
Director, Office of Foreign Assets Control.
Approved: November 20, 2002.
Kenneth Lawson,
Assistant Secretary (Enforcement), Department of the Treasury.

[FR Doc. 02-31212 Filed 12-6-02; 2:24 pm]

BILLING CODE 4810-25-P